DEPARTMENT OF LABOR

Employment and Training Administration

[TA-W-59,705; TA-W-59,705A]

Computer Sciences Corporation, Global Transformation Services Employed On-Site at Framers' Insurance Group Los Angeles, CA; Computer Sciences Corporation, Global Transformation Services Employed On-Site at Framers' Insurance Group Simi Valley, CA; Dismissal of Application for Reconsideration

Pursuant to 29 CFR 90.18(C) an application for administrative reconsideration was filed with the Director of the Division of Trade Adjustment Assistance for workers at Computer Sciences Corporation, Global Transformation Services employed on-site at Farmers' Insurance Group, Los Angeles, California and Computer Sciences Corporation, Global Transformation Services employed on-site at Farmers' Insurance Group, Simi Valley, California. The application did not contain new information supporting a conclusion that the determination was erroneous, and also did not provide a justification for reconsideration of the determination that was based on either mistaken facts or a misinterpretation of facts or of the law. Therefore, dismissal of the application was issued.

TA-W-59,705; Computer Science Corporation Global Transformation Services Employed on-site at Farmers' Insurance Group Los Angeles, California, and

TA-W-59,705A; Computer Science Corporation Global Transformation Services Employed on-site at Farmers' Insurance Group Simi Valley, California (November 8, 2006).

Signed at Washington, DC this 14th day of November 2006.
Richard Church,
Certifying Officer, Division of, Trade Adjustment Assistance.

[FR Doc. E6-19714 Filed 11-21-06; 8:45 am]

BILLING CODE 4510-30-P